FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans# | Acquiring | Acquired | Entities
Transactions Granted Early Termination—09/27/2004
20041211 | Parker-Hannifin Corporation | Sporlan Valve Company | Sporlan Valve Company.
20041343 | GTCR Fund VII L.P | Electronic Data Systems Corporation | EDS Information Services, L.L.C.
20041379 | The Laird Group PLC | Centurion Wireless Technologies, Inc | Centurion Wireless Technologies, Inc.
20041384 | ARM Holdings plc | Artisan Components, Inc | Artisan Components, Inc.
20041397 | Wind Point Partners V, L.P | United Subcontractors, Inc | United Subcontractors, Inc.
20041401 | LR2 AIV, L.P | Global Industries, Ltd | Global Industries, Ltd.
20041402 | First Reserve Fund X., L.P | Ingersoll-Rand Company Limited | Dresser-Rand Canada, Inc., Dresser-Rand S.A.-France, Ingersoll-Rand Company Limited.
20041404 | KeyCorp | James J. Pappas | Ariel Truss (Hawaii) Inc., Honolulu Wood Testing Co., Ltd.
20041405 | Mitsubishi Corporation | Royal Dutch Petroleum Company | Wildflower Development LLC.
20041407 | Metalurgica Gerdau, S.A | Cargill, Incorporated | North Star Recycling Company, North Star Steel Company, North Star Steel Kentucky, Inc., North Star Steel Texas, Inc.
20041408 | Inovis International, Inc | QRS Corporation | QRS Corporation.
Transactions Granted Early Termination—09/29/2004
20040416 | Dan L. Duncan | El Paso Corporation | El Paso Hydrocarbons, L.P., El Paso NGL Marketing Company, L.P.
20040417 | Dan L. Duncan | GulfTerra Energy Partners, L.P | GulfTerra Energy Partners, L.P.
20041385 | MDS Inc | Applera Corporation | Applera Corporation.
20041387 | Serologicals Corporation | Upstate Group, Inc | Upstate Group, Inc.
20041447 | ConocoPhillips | Open Joint-Stock Company Oil Company LUKOIL | Open Joint-Stock Company Oil LUKOIL.
20041456 | ConocoPhillips | Open Joint-Stock Company Oil Company LUKOIL | Open Joint-Stock Company Oil Company LUKOIL.
Transactions Granted Early Termination—09/30/2004
20041427 | Morgan Stanley | NTELOS, Inc | NTELOS, Inc.
Transactions Granted Early Termination—10/04/2004
20041372 | Parker-Hannifin Corporation | AEC Holdings, Inc | AEC Holdings, Inc.
20041380 | Adolph Coors, Jr. Trust | Molson Inc | Molson Inc.
20041415 | Cisco Systems, Inc | Netsolve, Incorporated | Netsolve, Incorporated.
20041416 | Federal Express Corporation | Delta Air Lines, Inc | Delta Air Lines, Inc.
20041417 | 2003 Riverside Capital Appreciation Fund L.P | Mark J. Lowe | Progressive Stamping & Plating.
20041418 | Jefferies Group, Inc | Jefferies Group, Inc | Bonds Direct Securities LLC.
20041420 | American Capital Strategies, Ltd | Roark Carvel LLC | Focus Brands, Inc.
20041423 | HMTF Fund V Cayman, L.P | Centennial Communications Corp | Centennial Puerto Rico Cable TV Corp.
20041432 | RHJ Industrial Partners, L.P | HIT Partners, L.P | HGH GP Limited, Honsel Germany Holdings, L.P., Tritech Holdings, L.P.
20041434 | Wellspring Capital Partners III, L.P | Envirosource, Inc | Envirosource, Inc.
Transactions Granted Early Termination—10/05/2004
20041410 | Bertarelli & Cie | ZymoGenetics, Inc | ZymoGenetics, Inc.
20041413 | Merrill Lynch & Co., Inc | Entergy Corporation | Entergy-Koch Trading Canada, ULC/Commerce Entergy-Koch Canada, Entergy-Koch Trading, L.P.
20041414 | Merrill Lynch & Co., Inc | Koch Industries, Inc | Entergy-Koch Trading Canada, ULC/Commerce Entergy-Koch Canada, Entergy-Koch Trading, L.P.
20041424 | Ventiv Health, Inc | Smith Hanley Holding Corp | Smith Hanley Holding Corp.
Transactions Granted Early Termination—10/08/2004
20041412 | LeCroy Corporation | Computer Access Technology Corporation | Computer Access Technology Corporation.
20041425 | Yahoo! Inc | Musicmatch, Inc | Musicmatch, Inc.
20041450 | Centrica plc | Wellspring Capital Partners III, L.P | RSG Holding Corp.
20041451 | Behrman Capital III L.P | David and Arline Parker Family Ltd. Partnership | Pelican Products, Inc.
20041462 | RC Aviation LLC | Hawaiian Holdings, Inc | Hawaiian Holdings, Inc.
20041463 | Salem Communications Corporation | A. Jerrold Perenchio | Univision Radio, Inc.
20041464 | A. Jerrold Perenchio | Salem Communications Corporation | Salem Communications Corporation.
20050001 | Audax Private Equity Fund, L.P | Southern Equipment Company, Inc | Southern Equipment Company, Inc.
20050002 | Paul G. Allen | DreamWorks Animation SKG, Inc. | DreamWorks Animation SKG, Inc.

FOR FURTHER INFORMATION CONTACT: Sandra M. Peay, Contact Representative or Renee Hallman, Case Management Assistant, Federal Trade Commission, Premerger Notification Office, Bureau of Competition, Room H-303, Washington, DC 20580, (202) 326-3100.

By Direction of the Commission.
Donald S. Clark,
Secretary.

[FR Doc. 04-24425 Filed 11-1-04; 8:45 am]

BILLING CODE 6750-01-M